ENVIRONMENTAL PROTECTION AGENCY

[FRL—10010-23-OA]

Notification of a Public Meeting of the Chartered Science Advisory Board and the Science Advisory Board Chemical Assessment Advisory Committee

AGENCY: Environmental Protection Agency (EPA).

ACTION: Notice.

SUMMARY: The Environmental Protection Agency (EPA) Science Advisory Board (SAB) Staff Office announces a public meeting of the Chartered SAB and the SAB Chemical Assessment Advisory Committee. The Chartered SAB and the SAB Chemical Assessment Advisory Committee will meet to conduct consultations with the EPA on: Activities to re-examine and consolidate EPA's Human Toxicity Assessment Guidelines, and new approach methods and reducing the use of laboratory animals for chronic and carcinogenicity testing. In addition, the Chartered SAB will conduct quality reviews of two draft SAB reports: Science Advisory Board Report on its Technical Review of EPA's Computable General Equilibrium Model, and Science Advisory Board Review of the All Ages Lead Model External Review Draft 2.0.

DATES: The public meeting of the Chartered Science Advisory Board and SAB Chemical Assessment Advisory Committee will be held on Tuesday, June 23, 2020, from 12:30 p.m. to 5:30 p.m. (Eastern Time) and Wednesday, June 24, 2020, from 12:30 p.m. to 5:30 p.m. (Eastern Time).

ADDRESSES: The public meeting will be conducted remotely via webcast and telephone. Please refer to the SAB website at http://www.epa.gov/sab for information on how to access the meeting.

FOR FURTHER INFORMATION CONTACT: Any member of the public who wants further information concerning the public meeting may contact Dr. Thomas Armitage, Designated Federal Officer (DFO), U.S. EPA Science Advisory Board, via telephone/voice mail (202) 564-2155, or email at armitage.thomas@epa.gov. General information concerning the SAB can be found on the EPA website at http://www.epa.gov/sab.

SUPPLEMENTARY INFORMATION:

Background: The SAB was established pursuant to the Environmental Research, Development, and Demonstration Authorization Act (ERDDAA), codified at 42 U.S.C. 4365, to provide independent scientific and technical advice to the Administrator on the scientific and technical basis for agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the Chartered SAB and SAB Chemical Assessment Advisory Committee will hold a public meeting to conduct two consultations with the EPA and conduct quality reviews of two draft SAB reports. The Chartered SAB and SAB Chemical Assessment Advisory Committee will conduct consultations with EPA on: (1) Activities to re-examine and consolidate EPA's Human Toxicity Assessment Guidelines, and (2) new approach methods and reducing the use of laboratory animals for chronic and carcinogenicity testing. The Chartered SAB will conduct quality reviews of: (1) The Science Advisory Board Report on its Technical Review of EPA's Computable General Equilibrium Model, and (2) the Science Advisory Board Review of the All Ages Lead Model External Review Draft 2.0.

Availability of Meeting Materials: Prior to the meeting, an agenda and other meeting materials will be placed on the SAB website at http://epa.gov/sab.

Procedures for Providing Public Input: Public comment for consideration by EPA's federal advisory committees and panels has a different purpose from public comment provided to EPA program offices. Therefore, the process for submitting comments to a federal advisory committee is different from the process used to submit comments to an EPA program office.

Federal advisory committees and panels, including scientific advisory committees, provide independent advice to the EPA. Members of the public can submit relevant comments pertaining to the committee's charge or meeting materials. Input from the public to the SAB will have the most impact if it provides specific scientific or technical information or analysis for the SAB to consider or if it relates to the clarity or accuracy of the technical information. Members of the public wishing to provide comment should contact the DFO directly.

Oral Statements: In general, individuals or groups requesting an oral presentation at a public teleconference will be limited to three minutes. Persons interested in providing oral statements should contact Dr. Thomas Armitage, DFO, in writing via email) at the contact information noted above by June 16, 2020, to be placed on the list of registered speakers.

Written Statements: Written statements will be accepted throughout the advisory process; however, for timely consideration by SAB members, statements should be received in the SAB Staff Office by June 16, 2020. Written statements should be supplied to the DFO at the contact information above via email with original signature. Submitters are requested to provide a signed and unsigned version of each document because the SAB Staff Office does not publish documents with signatures on its websites. Members of the public should be aware that their personal contact information, if included in any written comments, may be posted to the SAB website. Copyrighted material will not be posted without explicit permission of the copyright holder.

Accessibility: For information on access or services for individuals with disabilities, please contact Dr. Armitage at the phone number or email address noted above, preferably at least ten days prior to the meeting, to give the EPA as much time as possible to process your request.

Dated: May 21, 2020.
V Khanna Johnston,
Deputy Director, EPA Science Advisory Board Staff Office.

[FR Doc. 2020-11376 Filed 5-27-20; 8:45 am]

BILLING CODE 6560-50-P